DEPARTMENT OF TRANSPORTATION

Federal Aviation Administration

Seventh Meeting: RTCA Special Committee 210, Cabin Systems and Equipment

AGENCY: Federal Aviation Administration (FAA), DOT.

ACTION: Notice of RTCA Special Committee 210, Cabin Systems and Equipment.

SUMMARY: The FAA is issuing this notice to advise the public of a meeting of RTCA Special Committee 210, Cabin Systems and Equipment.

DATES: The meeting will be held July 15-17, 2008, from 9-5 p.m.

ADDRESSES: The meeting will be held at RTCA, Inc., 1828 L Street NW., Suite 805 Washington, DC 20036, Colson Board Room.

FOR FURTHER INFORMATION CONTACT: (1) RTCA Secretariat, 1828 L Street NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 210, Cabin Management Systems meeting.

Note: SC-210's work product (document DO-3XX, Certification Guidance for Installation of Non-Essential, Non-Required Aircraft Cabin Systems & Equipment), will be published for Final Review and Comment (FRAC) during the month of June 2008. Comments will be accepted until early July 2008. The primary goal of this plenary meeting is to review comments received and incorporate changes to the document, as appropriate.

The agenda will include:

• July 15:

• Opening Plenary Session (Welcome/Introductions/Administrative Remarks/ Review of Agenda).

• Approval of Summary of the sixth meeting held April 1-3, 2008, RTCA Paper No. 089-08/SC210-013 (Chair).

• PMC update (RTCA).

• Regulatory Update (Regulatory Agency):

• FAA.

• Transport Canada.

• EUROCAE/ICAO.

• Report on FRAC Results (Chair).

• Summary of compiled results.

• Overall direction for Committee (Chair).

• Organizational Items: leadership, WG structure, etc.

• Review of Committee Project Schedule.

• Recess Plenary Meeting.

• Break-up for Working Session.

• Committee-at-Large, Review/Incorporation of FRAC Results.

• Close out of day's activities.

• Items for group discussion/resolution.

• Review of tomorrow's activities.

• July 16:

• Continue Working Group Session.

• Committee-at-Large, Review/Incorporation of FRAC Results.

• Close out of day's activities.

• Items for group discussion/resolution.

• Review of tomorrow's activities.

• July 17:

• Continue Working Group Session.

• Reconvene Plenary Meeting.

• Reports from Working Session.

• Current status (accomplishments during plenary).

• Discussion/Resolution of outstanding issues.

• Anticipated accomplishments by next plenary and plan to achieve.

• Other Committee Business.

• Discussion of document creation and text writing assignments.

• Document Structure/Review (Editor & Leadership Team).

• Review of Committee Project Schedule.

• Terms and Reference—Review Status.

• Assignment of Responsibilities.

• Closing Plenary Session (Other Business, Establish Agenda for Next Meeting, Date, and Place of Next Meeting, Adjourn).

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 28, 2008.
Francisco Estrada C.,
RTCA Advisory Committee.

[FR Doc. E8-12353 Filed 6-3-08; 8:45 am]

BILLING CODE 4910-13-M